DEPARTMENT OF COMMERCE

International Trade Administration

[A-421-807]

Certain Hot-Rolled Carbon Steel Flat Products from the Netherlands; Preliminary Results of the Sunset Review of Antidumping Duty Order

AGENCY: Import Administration, International Trade Administration, Department of Commerce.

SUMMARY: On August 1, 2006, the Department of Commerce (“the Department”) initiated a sunset review of the antidumping duty order on certain hot-rolled carbon steel flat products from the Netherlands (see Initiation of Five-year (“Sunset”) Reviews, 71 FR 43443 (August 1, 2006)). On the basis of the notice of intent to participate, adequate substantive responses and rebuttal comments filed on behalf of the domestic and respondent interested parties, the Department is conducting a full sunset review of the antidumping duty order pursuant to section 751(c) of the Tariff Act of 1930, as amended (“the Act”) and section 351.218(e)(2)(i) of the Department's regulations. As a result of this sunset review, the Department preliminarily finds that revocation of the antidumping duty order would likely lead to continuation or recurrence of dumping at the levels listed below in the section entitled “Preliminary Results of Review.”

EFFECTIVE DATE: February 16, 2007.

FOR FURTHER INFORMATION CONTACT: Steve Bezirganian or Robert James, AD/CVD Operations, Office 7, Import Administration, International Trade Administration, U.S. Department of Commerce, 14th Street & Constitution Avenue, NW, Washington, DC, 20230; telephone: 202-482-1131 and 202-482-0649, respectively.

SUPPLEMENTARY INFORMATION:

Background

On August 1, 2005, the Department published its notice of initiation of the first sunset review of the antidumping duty order on certain hot-rolled carbon steel flat products from the Netherlands, in accordance with section 751(c) of the Act. See Initiation of Five-year (“Sunset”) Reviews, 71 FR 43443 (August 1, 2006) (Notice of Initiation).

The Department received a Notice of Intent to Participate from a respondent interested party, Corus Staal BV. Corus Staal BV claimed interested party status as a foreign producer, under section 771(9)(A) of the Act (19 U.S.C. 1677(9)(A)) and 19 CFR 351.102(b).

The Department also received a Notice of Intent to Participate from the following domestic interested parties: Nucor Corporation; Gallatin Steel; IPSCO Steel, Inc.; Steel Dynamics, Inc.; Mittal Steel USA; and United States Steel Corporation (collectively Domestic Producers). Finally, the Department received a Notice of Intent to Participate from an additional domestic interested party: United Steel, Paper and Forestry, Rubber, Manufacturing, Energy, Allied Industrial and Service Workers International Union, AFL-CIO-CLC. The Notices of Intent to Participate from domestic interested parties were within the deadline specified in section 351.218(d)(1)(i) of the Department's Regulations (see Procedures for Conducting Five-year (“Sunset”) Reviews of Antidumping and Countervailing Duty Orders (Sunset Regulations), 63 FR 13516 (March 20, 1998)). The domestic interested parties claimed interested party status under sections 771(9)(C) and (D) of the Act, as manufacturers of a domestic-like product in the United States, and a union whose workers are engaged in the production of a domestic like product in the United States.

The Department received a complete substantive response to the Notice of Initiation from the domestic interested parties within the 30-day deadline specified in the Sunset Regulations under section 351.218(d)(3)(i). The Department also received a complete substantive response from a respondent interested party, Corus Staal BV, within the deadline specified in section 351.218(d)(3)(i) of the Department's regulations.

On September 1, 2006, the Department received a request from United States Steel Corporation for an extension of the deadline for filing rebuttal comments to the substantive response of the respondent interested parties. Pursuant to section 351.302(b) of the Department's regulations, parties were granted an extension to file rebuttal comments to the substantive responses until September 8, 2006. On September 8, 2006, Corus Staal BV and United States Steel Corporation filed rebuttal comments.

On September 20, 2006, the Department found that the respondent interested parties accounted for more than 50 percent of exports by volume of the subject merchandise from Germany to the United States. See the September 20, 2006, memorandum from Robert James to Richard Weible entitled “Sunset Review of Certain Hot-Rolled Carbon Steel Flat Products from the Netherlands: Adequacy of Domestic and Respondent Interested Party Responses to the Notice of Initiation.” In accordance with section 351.218(e)(2)(i) of the Department's regulations, the Department determined to conduct a full sunset review of this antidumping duty order.

The Department extended the deadlines for the preliminary results of this review and the final results of this review to February 12, 2007, and June 22, 2007, respectively. See Certain Hot-Rolled Carbon Steel Flat Products from the Netherlands; Extension of Time Limits for Preliminary and Final Results of Full Five-year (“Sunset”) Review of Antidumping Duty Order, 71 FR 67854 (November 24, 2006).

Scope of the Order

For purposes of this order, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of the order. Specifically included within the scope of this order are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such silicon and aluminum.

Steel products to be included in the scope of this order, regardless of definitions in the Harmonized Tariff Schedule of the United States (HTSUS), are products in which: (i) iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this order unless otherwise excluded. The following products, by way of example, are outside or specifically excluded from the scope of this order:

• Alloy hot-rolled steel products in which at least one of the chemical elements exceeds those listed above (including, e.g., ASTM specifications A543, A387, A514, A517, A506).

• Society of Automotive Engineers (SAE)/American Iron and Steel Institute (AISI) grades of series 2300 and higher.

• Ball bearings steels, as defined in the HTSUS.

• Tool steels, as defined in the HTSUS.

• Silico-manganese (as defined in the HTSUS) or silicon electrical steel with a silicon level exceeding 2.25 percent.

• ASTM specifications A710 and A736.

• USS Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this order is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled flat-rolled carbon steel flat products covered by this order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and U.S. Customs purposes, the written description of the scope of this order is dispositive.

Analysis of Comments Received

All issues raised in this sunset review are addressed in the “Issues and Decision Memorandum for the Full Sunset Review of the Antidumping Duty Order on Certain Hot-Rolled Carbon Steel Flat Products from the Netherlands; Preliminary Results,” from Stephen Claeys, Deputy Assistant Secretary for Import Administration, to David Spooner, Assistant Secretary for Import Administration, dated February 12, 2007 (“Decision Memorandum”), which is hereby adopted by this notice. The issues discussed in the Decision Memorandum include: the legal authority to conduct sunset review; Corus Staal BV's claim with regard to the Department's practice embodied in the Sunset Review Policy Bulletin; the likelihood of the continuation or recurrence of dumping (non-de minimis margins in administrative reviews, and significant decline in import volumes); the magnitude of the margin likely to prevail (zeroing, sales by U.S. affiliate GalvPro LP, and duty absorption).

Parties can find a complete discussion of all issues raised in this sunset review and the corresponding recommendations in this public memorandum, which is on file in room B-099 of the main Department Building. In addition, a complete version of the Decision Memo can be accessed directly on the Web at http://ia.ita.doc.gov/frn, under the heading “February 2007.” The paper copy and electronic version of the Decision Memorandum are identical in content.

Preliminary Results of Review

The Department preliminarily determines that revocation of the antidumping duty order on certain hot-rolled carbon steel flat products from the Netherlands is likely to lead to continuation or recurrence of dumping at the following weighted-average margins:

Manufacturers/Producers/Exporters | Weighted-Average Margin (Percent)
Corus Staal BV | 2.59
All Others | 2.59

Any interested party may request a hearing within 30 days of publication of this notice in accordance with 19 CFR 351.310(c). Interested parties may submit case briefs no later than 50 days after the date of publication of this notice, in accordance with 19 CFR 351.309(c)(1)(i). Rebuttal briefs, which must be limited to issues raised in the case briefs, may be filed no later than 5 days after the case briefs, in accordance with 19 CFR 351.309(d)(1). Any hearing, if requested, will be held two days after rebuttal briefs are due, in accordance with 19 CFR 351.310(d)(1). The Department will issue a notice of final results of this sunset review, which will include the results of its analysis of issues raised in any such briefs, no later than June 22, 2007 (see Certain Hot-Rolled Carbon Steel Flat Products from the Netherlands; Extension of Time Limits for Preliminary and Final Results of Full Five-year (“Sunset”) Review of Antidumping Duty Order, 71 FR 67854 (November 24, 2006)).

This five-year (“sunset”) review and notice are in accordance with sections 751(c), 752, and 777(i)(1) of the Act.

Dated: February 12, 2007.
David Spooner,
Assistant Secretary for Import Administration.

[FR Doc. E7-2816 Filed 2-15-07; 8:45 am]

BILLING CODE 3510-DS-S